FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501—3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 15, 2013. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-XXXX.

Title: Comprehensive Market Data Collection for Interstate Special Access Services, FCC 123-153.

Form Number: N/A.

Type of Review: New collection.

Respondents: Business or other for-profit entities, not-for-profit institutions and state, local or tribal government.

Number of Respondents: 6,387 respondents; 6,387 responses.

Estimated Time per Response: 134 hours (average).

Frequency of Response: One time reporting requirement and recordkeeping requirement.

Obligation to Respond: Mandatory. Statutory authority for this information collection is contained in 47 U.S.C. sections 151, 154, 201, 202, 218 and 706 of the Communications Act of 1934, as amended.

Total Annual Burden: 856,614 hours.

Total Annual Cost: N/A.

Privacy Impact Assessment: N/A.

Nature and Extent of Confidentiality: The Commission adopted two orders to protect proprietary and confidential information in this proceeding. The Modified Protective Order protects respondents against public disclosure of proprietary and commercially sensitive information. Such information is marked “confidential,” is redacted from public documents, and may only be disclosed to counsel (either in-house or outside) or experts and their employees who comply with the procedures in the Modified Protective Order. Under the Modified Protective Order, disclosure is limited to counsel or experts and their employees that are not involved in competitive decision-making, i.e., do not participate in any of the client's business decisions made in light of information about a competitor.

In response to requests from interested parties, the Bureau adopted a Second Protective Order, which provides for more stringent protection of information deemed “highly confidential.” As opposed to the confidential data covered by the Modified Protective Order, the Second Protective Order, documents—or portions thereof—are eligible for highly confidential treatment only if they fall into one of eight categories of information designated as “highly confidential” by the Bureau.

Needs and Uses: The Commission will submit this new information collection to the Office of Management and Budget (OMB) for approval after this comment period In a December 2012 Report and Order, FCC 12-153, the Commission initiated a comprehensive special access data collection and specified the nature of the data to be collected and the scope of respondents. In conjunctions with the market analysis proposed by the Commission in a December 2012 Further Notice of Proposed Rulemaking, FCC 12-153, the data, information and documents acquired through this new collection will aid the Commission in conducting a comprehensive evaluation of competition in the special access market and updating its rules for pricing flexibility for special access services.

Federal Communications Commission.
Marlene H. Dortch,
Secretary.

[FR Doc. 2013-03227 Filed 2-11-13; 8:45 am]

BILLING CODE 6712-01-P